DEPARTMENT OF HOUSING AND URBAN DEVELOPMENT

[Docket No. FR-4579-FA-02]

Announcement of Funding Awards for Fiscal Year 1999 for the Rental Voucher and Rental Certificate Programs

AGENCY: Office of Public and Indian Housing, HUD.

ACTION: Announcement of funding awards.

SUMMARY: In accordance with Section 102(a)(4)(C) of the Department of Housing and Urban Development Reform Act of 1989, this document notifies the public of funding awards for Fiscal Year (FY) 1999 to housing agencies (HAs) under the Section 8 rental voucher and rental certificate programs. The purpose of this notice is to publish the names and addresses of the award winners and the amount of the awards made available by HUD to provide rental assistance to very low-income families. Announcements for funding awards for the family unification, mainstream, non-elderly designated housing, and family self-sufficiency coordinators programs will be published under a separate notice.

FOR FURTHER INFORMATION CONTACT: Regina McGill, Director, Funding and Financial Management Division, Office of Public and Assisted Housing Delivery, Office of Public and Indian Housing, Room 4216, Department of Housing and Urban Development, 451 Seventh Street, S.W., Washington, D.C. 20410-8000, telephone (202) 708-1872. Hearing- or speech-impaired individuals may call HUD's TDD number (202) 708-4594. (These telephone numbers are not toll-free.)

SUPPLEMENTARY INFORMATION: The regulations governing the rental certificate and rental voucher programs are published at 24 CFR 982. The regulations for allocating housing assistance budget authority under Section 213(d) of the Housing and Community Development Act of 1974 are published at 24 CFR Part 791, Subpart D.

The purpose of the rental voucher and rental certificate programs is to assist eligible families to pay the rent for decent, safe, and sanitary housing. The FY 99 awardees announced in this notice were provided Section 8 funds on an as needed basis, i.e., not consistent with the provisions of a Notice of Funding Availability (NOFAs). Announcements of awards provided consistent with NOFA published on March 8, 1999 (64 FR 11277, 11294, 11310, and 11302) will be published in a separate Federal Register notice.

Awards published under this notice were provided to assist families living in HUD-owned properties that are being sold; to assist families affected by the expiration or termination of assistance; to provide relocation and replacement housing in connection with the demolition of public housing; to assist families in properties where the owner has prepaid the HUD mortgage; to partially fulfill the Department's obligations in settlement decrees for various lawsuits; and to provide mobility counseling and assistance to families so that they may move to areas that have low racial and ethnic concentrations.

A total of $185,666,931 in budget authority for rental vouchers and rental certificates (30,098 units) was awarded to recipients under all of the above mentioned categories.

In accordance with Section 102(a)(4)(C) of the Department of Housing and Urban Development Reform Act of 1989 (103 Stat. 1987, 42 U.S.C. 3545), the Department is publishing the names, addresses, and amounts of those awards as shown in Appendix A.

Dated: March 28, 2000.
Harold Lucas,
Assistant Secretary for Public and Indian Housing.

Appendix A.—Section 8 Rental Assistance Programs Announcement of Awards for Fiscal Year 1999
Housing agency | Address | Units | Award
Litigation (Vouchers)
ALLEGHENY CO HSG AUTH | 341 FOURTH AVE FIDELITY BL, PITTSBURGH, PA 15222-0000 | 100 | 1,404,460
ARK-TEX COUNCIL OF GOVTS | P O BOX 5307, 210 WEST SIXTH ST, TEXARKANA, TX 75505-5307 | 100 | 785,264
DEEP EAST TX COUNCIL OF GOVTS | 274 E LAMAR, JASPER, TX 75951 | 75 | 497,448
HSG AUTH OF DALLAS | 3939 N HAMPTON RD, DALLAS, TX 75212 | 640 | 8,867,544
HSG AUTH OF NACOGDOCHES | 715 SUMMIT ST, NACOGDOCHES, TX 75961 | 25 | 204,846
Total for Litigation (Vouchers) |  | 940 | 11,759,562
Preservations/Prepayments (Certificates)
CITY OF LOS ANGELES HSG AUTH | 2600 WILSHIRE BLVD, LOS ANGELES, CA 90057-0000 | 2 | 3,448
HSG AUTH OF COOK CO | 310 SOUTH MICHIGAN AVE, 15TH FL, CHICAGO, IL 60604-4204 | 0 | 31,860
BOSTON HSG AUTH | 52 CHAUNCY ST, BOSTON, MA 02111-0000 | 0 | 43,752
CAMBRIDGE HSG AUTH | 675 MASSACHUSETTS AVE, CAMBRIDGE, MA 02139-0000 | 0 | 22,752
COMM DEV PROG COMM OF MA., E.O.C.D. | ONE CONGRESS ST, 10TH FL, BOSTON, MA 02114 | 0 | 18,456
FALL RIVER HSG AUTH | 85 MORGAN ST, P O BOX 989, FALL RIVER, MA 02722-0989 | 0 | 97,116
MILFORD HSG AUTH | 45 BIRMINGHAM CT, MILFORD, MA 01757 | 0 | 852
NORTHAMPTON HSG AUTH | 49 OLD SOUTH ST, NORTHAMPTON, MA 01060 | 0 | 69,120
BERKS CO HSG AUTH | 1803 BUTTER LANE, READING, PA 19606-0000 | 0 | 17,712
HSG AUTH GREENVILLE | P O BOX 10047, GREENVILLE, SC 29603-0047 | 1 | 9,792
Total for Preservations/Prepayments (Certificates) |  | 3 | 314,860
Preservations/Prepayments (Vouchers)
CITY OF TEMPE | 132 E 6TH ST, STE 201, P O BOX 5002, TEMPE, AZ 85280-5002 | 50 | 113,957
CITY OF LONG BEACH HSG AUTH | 333 WEST OCEAN BLVD, LONG BEACH, CA 90802-0000 | 26 | 76,836
CITY OF LOS ANGELES HSG AUTH | 2600 WILSHIRE BLVD, LOS ANGELES, CA 90057-0000 | 104 | 440,414
CITY OF PICO RIVERA | 6615 S PASSONS BLVD, P O BOX 1016, PICO RIVERA, CA 90660-0000 | 23 | 90,255
CITY OF VACAVILLE | 40 ELDRIDGE AVE, STES 1-5, VACAVILLE, CA 95687-0000 | 10 | 22,777
CO OF BUTTE HSG AUTH | 580 VALLOMBROSA AVE, CHICO, CA 95926 | 111 | 239,828
CO OF SAN BERNARDINO HSG AUTH | 1053 NORTH D ST, SAN BERNARDINO, CA 92410-0000 | 56 | 185,983
CO OF SAN JOAQUIN HSG AUTH | 448 SOUTH CENTER ST, P O BOX 447, STOCKTON, CA 95203/01 | 48 | 147,897
LASSEN CO | 707 NEVADA ST, STE 5, SUSANVILLE, CA 96130 | 45 | 67,649
SAN DIEGO HSG COMMISSION | 1625 NEWTON AVE, SAN DIEGO, CA 92113-1012 | 28 | 82,128
YUBA CO HSG AUTH | 938 14TH ST, MARYSVILLE, CA 95901 | 67 | 177,051
WATERBURY HSG AUTH | 2 LAKEWOOD RD, WATERBURY, CT 06704-0000 | 8 | 26,731
HIALEAH HSG AUTH | 70 EAST 7TH ST, HIALEAH, FL 33010-0000 | 102 | 422,524
HSG AUTH FORT LAUDERDALE CITY | 437 S W 4TH AVE, FORT LAUDERDALE, FL 33315-0000 | 15 | 28,457
HSG AUTH OF JACKSONVILLE | 1300 BROAD ST, JACKSONVILLE, FL 32202-0000 | 32 | 65,604
SEMINOLE CO HSG AUTH | 300 SUNFLOWER CIR, DELAND, FL 32724 | 220 | 851,717
HSG AUTH JONESBORO | P O BOX 458, JONESBORO, GA 30237-0000 | 112 | 370,200
CITY AND CO OF HONOLULU | DEPT OF COMM & SOCIAL SERVIC, 715 SOUTH KING ST, STE, HONOLULU, HI 96813-0000 | 199 | 876,114
CO OF HAWAII | OFFICE OF HSG & COMM DEV, 50 WAILUKU DR, HILO, HI 96720-0000 | 11 | 55,722
CITY OF CEDAR RAPIDS | CITY HALL, CEDAR RAPIDS, IA 52401-0000 | 18 | 37,407
BOISE CITY HSG AUTH | 680 CUNNINGHAM PL, BOISE, ID 83702-0000 | 35 | 81,202
CHICAGO HSG AUTH | 626 WEST JACKSON BLVD, CHICAGO, IL 60661 | 2 | 6,016
DUPAGE CO ILLINOIS | 128A S CO FARM RD, WHEATON, IL 60187-0000 | 53 | 128,536

Appendix A.—Section 8 Rental Assistance Programs Announcement of Awards for Fiscal Year 1999
Housing agency | Address | Units | Award
Litigation (Vouchers)
HSG AUTH OF COOK CO | 310 SOUTH MICHIGAN AVE, 15TH FL, CHICAGO, IL 60604-4204 | 315 | 1,100,869
MAYWOOD HSG AUTH | 1701 SOUTH 1ST AVE STE 500, MAYWOOD, IL 60153-0000 | 4 | 14,921
GARY HSG AUTH | 578 BROADWAY, GARY, IN 46402-0000 | 40 | 121,061
HSG AUTH CITY OF EVANSVILLE | P O BOX 3605, 500 COURT ST, EVANSVILLE, IN 47735-0000 | 64 | 131,958
LEXINGTON-FAYETTE CO HSG AUTH | 300 NEW CIR RD, LEXINGTON, KY 40505 | 48 | 102,382
BOSTON HSG AUTH | 52 CHAUNCY ST, BOSTON, MA 02111-0000 | 129 | 3,798,981
CAMBRIDGE HSG AUTH | 675 MASSACHUSETTS AVE, CAMBRIDGE, MA 02139-0000 | 55 | 714,092
COMM DEV PROG COMM OF MA., E.O.C.D | ONE CONGRESS ST, 10TH FL, BOSTON, MA 02114 | 159 | 1,121,899
FALL RIVER HSG AUTH | 85 MORGAN ST, P O BOX 989, FALL RIVER, MA 02722-0989 | 250 | 1,094,622
LOWELL HSG AUTH | 350 MOODY ST, LOWELL, MA 01853-0060 | 0 | 120,000
MEDFORD HSG AUTH | 121 RIVERSIDE AVE, MEDFORD, MA 02155 | 284 | 3,152,792
MILFORD HSG AUTH | 45 BIRMINGHAM CT, MILFORD, MA 01757 | 93 | 577,873
NORTH ADAMS HSG AUTH | 150 ASHLAND ST BOX 511, NORTH ADAMS, MA 01247-0511 | 9 | 19,546
NORTHAMPTON HSG AUTH | 49 OLD SOUTH ST, NORTHAMPTON, MA 01060 | 8 | 47,141
ANNE ARUNDEL CO HSG AUTH | 7885 GORDON CT, P O BOX 817, GLEN BURNIE, MD 21060-2817 | 136 | 441,045
HAGERSTOWN HSG AUTH | 35 WEST BALTIMORE ST, HAGERSTOWN, MD 21740 | 59 | 78,320
HSG AUTH PRINCE GEORGES CO | 9400 PEPPERCORN PL, LANDOVER, MD 20785-0000 | 83 | 363,920
MONTGOMERY CO HSG AUTH | 10400 DETRICK AVE, KENSINGTON, MD 20895-0000 | 125 | 532,884
JACKSON HSG COMMISSION | 301 STEWARD AVE, JACKSON, MI 49201-1132 | 34 | 108,127
LANSING HSG COMMISSION | 310 NORTH SEYMOUR ST, LANSING, MI 48933-0000 | 85 | 270,052
MICHIGAN STATE HSG DEV'T AUTH | 401 S WASHINGTON SQ, LANSING, MI 48909-0000 | 43 | 118,731
MICHIGAN STATE HSG DEV'T AUTH | P O BOX 30044, LANSING, MI 48909-0000 | 47 | 132,673
PLYMOUTH HSG COMMISSION | 1160 SHERIDAN, PLYMOUTH, MI 48170-0000 | 59 | 186,032
CLOQUET HRA | 950 14TH ST, CLOQUET, MN 55720-0000 | 20 | 27,264
ITASCA CO HRA | 19 NE THIRD ST, GRAND RAPIDS, MN 55744 | 16 | 17,715
OWATONNA HRA | 540 WEST HILLS CIR, OWATONNA, MN 55060-0000 | 8 | 8,350
ST. CLOUD HRA | 619 MALL GERMAIN, STE 212, ST CLOUD, MN 56301-3689 | 14 | 33,383
LIBERTY HSG AUTH | P O BOX 159, 101 E KANSAS, LIBERTY, MO 64068-0000 | 38 | 61,403
SPRINGFIELD HSG AUTH | 421 WEST MADISON, SPRINGFIELD, MO 65806-0000 | 43 | 96,235
MISSOULA HSG AUTH | 1319 E BROADWAY, MISSOULA, MT 59802-0000 | 60 | 109,987
HSG AUTH OF THE CITY OF CHARLOTTE | P O BOX 36795, 1301 SOUTH BLVD, CHARLOTTE, NC 28236 | 304 | 840,822
HSG AUTH STATESVILLE | 110 W ALLISON ST, STATESVILLE, NC 28677 | 17 | 47,842
RALEIGH HSG AUTH | 600 TUCKER ST, P O BOX 28007, RALEIGH, NC 27611 | 102 | 373,373
MANCHESTER HSG AUTH | 198 HANOVER ST, MANCHESTER, NH 03104 | 198 | 764,222
NEW JERSEY DEPT OF COMMUNITY AFFAIRS | 101 SOUTH BROAD ST, PO BOX 051, TRENTON, NJ 08625-0051 | 606 | 7,005,873
BERNALILLO CO HSG DEPT | 620 LOMAS BLVD NW, ALBUQUERQUE, NM 87102-0000 | 91 | 241,191
BOWLING GREEN HSG AUTH | 1044 CHELSEA AVE, NAPOLEON, OH 43545 | 61 | 101,342
CLERMONT METRO HSG AUTH | 65 SOUTH MARKET ST, BATAVIA, OH 45103-2943 | 47 | 127,494
COLUMBUS METRO HSG AUTH | 960 EAST FIFTH AVE, COLUMBUS, OH 43201-0000 | 70 | 129,999
PARMA PHA | 6901 WEST RIDGEWOOD DR, PARMA, OH 44129 | 192 | 443,658
HSG AUTH OF PORTLAND | 135 SW ASH ST, PORTLAND, OR 97204-0000 | 48 | 133,630
HSG AUTH OF THE CO OF CLACKAMAS | P O BOX 1510, OREGON CITY, OR 97045-0510 | 1 | 2,597
LINN-BENTON HSG AUTH | 1250 SE QUEEN AVE, ALBANY, OR 97321-6661 | 18 | 66,252
BERKS CO HSG AUTH | 1803 BUTTER LANE, READING, PA 19606-0000 | 91 | 245,696
HSG AUTH COLUMBIA | 1917 HARDEN ST, COLUMBIA, SC 29204-0000 | 98 | 262,041
HSG AUTH GREENVILLE | P O BOX 10047, GREENVILLE, SC 29603-0047 | 60 | 160,353
HSG AUTH SOUTH CAROLINA REG NO 1 | P O BOX 326, LAURENS, SC 29360-0000 | 21 | 54,726
DALLAS CO HSG ASSIST PGM | 2377 N STEMMONS FRWY, STE 700, DALLAS, TX 75207-2710 | 283 | 1,179,454
DENTON HSG AUTH | 308 S RUDDELL, DENTON, TX 76205-6352 | 105 | 447,293
GARLAND HSG AUTH | P O BOX 469002, 701 CLARK ST, GARLAND, TX 75046-9002 | 70 | 299,419

Appendix A.—Section 8 Rental Assistance Programs Announcement of Awards for Fiscal Year 1999
Housing agency | Address | Units | Award
Litigation (Vouchers)
GRAND PRAIRIE HSNG & COMM DEV'T | P O BOX 534045, 201 NW 2ND ST, STE 150, GRAND PRAIRIE, TX 75053-4045 | 206 | 453,292
HSG AUTH OF DALLAS | 3939 N HAMPTON RD, DALLAS, TX 75212 | 60 | 265,188
HSG AUTH OF LUBBOCK | P O BOX 2568, 1301 BROADWAY, LUBBOCK, TX 79408-2568 | 8 | 6,553
HSG AUTH OF PLANO | 1111 AVE H, BLDG A, PLANO, TX 75074 | 69 | 279,598
LANCASTER HSG AUTH | P O BOX 310, 525 WEST PLEASANT RUN, LANCASTER, TX 75146-0310 | 9 | 42,960
MESQUITE HSG AUTH | P O BOX 850137, 720 N EBRITE, MESQUITE, TX 75185-0137 | 186 | 684,352
TARRANT CO HSG ASSIST PGM | 1200 CIR DR, #100, FORT WORTH, TX 76119 | 91 | 215,721
WEATHERFORD HSG AUTH | P O BOX 700, 1128 FORT WORTH HIGHWAY, WEATHERFORD, TX 76086-0700 | 29 | 80,553
VIRGINIA HSG DEV'T AUTH | 601 S BELVIDERE ST, RICHMOND, VA 23220-0000 | 92 | 497,810
VIRGINIA HSG DEV'T AUTH | 601 S BELVIDERE ST, RICHMOND, VA 23225-0000 | 107 | 418,421
HSG AUTH OF CHELAN CO/CITY OF WENATCHEE | 1555 SOUTH METHOW ST, WENATCHEE, WA 98801-9417 | 0 | 2,857
HSG AUTH OF JEFFERSON CO | 802 SHERIDAN, FIRST FL, P O BOX 1540, PORT TOWNSEND, WA 98368-2459 | 6 | 5,846
HSG AUTH OF THE CITY OF TACOMA | 902 SOUTH “L” ST, TACOMA, WA 98405-0000 | 108 | 328,020
HSG AUTH OF THE CITY OF WALLA WALLA | 501 CAYUSE ST, WALLA WALLA, WA 99362-0000 | 13 | 38,403
SPOKANE HSG AUTH | WEST 55 MISSION ST, STE 104, SPOKANE, WA 99201-2344 | 42 | 122,249
MILWAUKEE CO HSG AUTH | COURTHOUSE ANNEX RM 310, 907 NORTH 10TH ST, MILWAUKEE, WI 53233-0000 | 89 | 251,920
WYOMING COMMUNITY DEV'T AUTH | P O BOX 634, CASPER, WY 82602-0000 | 0 | 14,760
Total for Preservations/Prepayments (Vouchers) |  | 7,301 | 35,935,043
Property Disposition Relocation (Certificates)
CITY OF HARTFORD | 10 PROSPECT ST, HARTFORD, CT 06103-0000 | 21 | 107,932
DC HSG AUTH | 1133 NORTH CAPITOL ST NE, WASHINGTON, DC 20002-7599 | 36 | 383,572
MISS REGIONAL HSG AUTH VI | P O DRAWER 8746, JACKSON, MS 39284-8746 | 0 | 96,768
Total for Property Disposition Relocation (Certificates) |  | 57 | 588,272
Property Disposition Relocation (Vouchers)
CITY OF RICHMOND HSG AUTH | 330 24TH ST, RICHMOND, CA 94808-0000 | 240 | 1,956,255
CITY OF SACRAMENTO | SACRAMENTO HSG & REDEV'T, P O BOX 1834, SACRAMENTO, CA 95814 | 26 | 118,577
DC HSG AUTH | 1133 NORTH CAPITOL ST NE, WASHINGTON, DC 20002-7599 | 170 | 1,412,659
CHAMPAIGN CO HSG AUTH | 205 WEST PARK AVE, CHAMPAIGN, IL 61820 | 80 | 371,007
CHICAGO HSG AUTH | 626 WEST JACKSON BLVD, CHICAGO, IL 60661 | 34 | 232,640
ELGIN HSG AUTH | 120 SOUTH STATE ST, ELGIN, IL 60123-0000 | 132 | 895,772
HSG AUTH OF THE CITY OF EAST SAINT LOUIS | 700 NORTH 20TH ST, EAST ST LOUIS, IL 62205-1814 | 55 | 315,583
HSG AUTH NEW ALBANY | P O BOX 11, NEW ALBANY, IN 47150-0000 | 59 | 302,546
SHREVEPORT HSG AUTH | 623 JORDAN, SHREVEPORT, LA 71101-0000 | 125 | 360,960
TERREBONNE PARISH CONSOLIDATED GOVT | P O BOX 2768, HOUMA, LA 70361-0000 | 109 | 470,100
HSG AUTH PRINCE GEORGES CO | 9400 PEPPERCORN PL, LANDOVER, MD 20785-0000 | 30 | 156,052
MISSOURI HSG DEV'T COMMISSION | 3435 BROADWAY, KANSAS CITY, MO 64111 | 92 | 523,830
MO HSG DEV'T COMM | 3435 BROADWAY, KANSAS CITY, MO 64111-0000 | 50 | 274,914
MISS REGIONAL HSG AUTH VI | P O DRAWER 8746, JACKSON, MS 39284-8746 | 100 | 579,745
CINCINNATI METRO HSG AUTH | 16 WEST CENTRAL PARKWAY, CINCINNATI, OH 45210-1991 | 2 | 10,044
OKLAHOMA HSG FINANCE AGCY | P O BOX 26720, OKLAHOMA CITY, OK 73126-0720 | 26 | 94,442
HSG AUTH MEMPHIS | 700 ADAMS AVE, P O BOX 3664, MEMPHIS, TN 38103-3664 | 143 | 645,469
AMARILLO HSG AUTH | P O BOX 1971, 509 E 7TH, AMARILLO, TX 79105-1971 | 96 | 362,827
BRAZOS VALLEY DEV'T COUNCIL | P O DRAWER 4128, BRYAN, TX 77805-4128 | 35 | 170,445
HSG AUTH OF DALLAS | 3939 N HAMPTON RD, DALLAS, TX 75212 | 296 | 2,124,595
VIRGINIA HSG DEV'T AUTH | 601 S BELVIDERE ST, RICHMOND, VA 23225-0000 | 20 | 127,065

Appendix A.—Section 8 Rental Assistance Programs Announcement of Awards for Fiscal Year 1999
Housing agency | Address | Units | Award
Litigation (Vouchers)
Total for Property Disposition Relocation (Vouchers) |  | 1,920 | 11,505,527
Public Housing Relocation/Replacement (Vouchers)
HSG AUTH BESSEMER | 1100 5TH AVE NORTH, BESSEMER, AL 35020-0000 | 8 | 46,360
HSG AUTH OF BIRMINGHAM DISTRICT | 1826 3RD AVE SOUTH, BIRMINGHAM, AL 35233 | 156 | 803,114
MOBILE HSG BOARD | P O BOX 1345, MOBILE, AL 36633-0000 | 144 | 719,074
MARICOPA CO HSG AUTH | 2024 N 7TH ST, STE 101, PHOENIX, AZ 85006-2155 | 79 | 651,071
CITY OF LOS ANGELES HSG AUTH | 2600 WILSHIRE BLVD, LOS ANGELES, CA 90057-0000 | 297 | 2,267,666
OAKLAND HSG AUTH | 1619 HARRISON ST, OAKLAND, CA 94612-0000 | 81 | 819,082
DC HSG AUTH | 1133 NORTH CAPITOL ST NE, WASHINGTON, DC 20002-7599 | 269 | 2,364,877
WILMINGTON HSG AUTH | 400 WALNUT ST, WILMINGTON, DE 19801-0000 | 234 | 1,206,906
HSG AUTH FORT PIERCE | 707 NORTH 7TH ST, FORT PIERCE, FL 33450 | 20 | 149,268
ST. PETERSBURG HSG AUTH | 3250 5TH AVE NORTH, ST PETERSBURG, FL 33713 | 246 | 1,249,912
HSG AUTH ATLANTA GA | 739 WEST PEACHTREE ST NE, ATLANTA, GA 30308 | 241 | 1,740,720
HSG AUTH FULTON CO | 10 PARK PL SE STE 550, ATLANTA, GA 30303-0000 | 115 | 928,054
HSG AUTH OF THE CITY OF COLLEGE PARK | 1908 WEST PRINCETON AVE, COLLEGE PARK, GA 30337-0000 | 154 | 1,249,346
PEORIA HSG AUTH | 100 S SHERIDAN RD, PEORIA, IL 61605-0000 | 200 | 967,537
CITY OF INDIANAPOLIS | FIVE INDIANA SQ, SECOND FL, INDIANAPOLIS, IN 46204 | 248 | 741,007
LEXINGTON-FAYETTE CO HSG AUTH | 300 NEW CIR RD, LEXINGTON, KY 40505 | 219 | 1,127,323
CAMBRIDGE HSG AUTH | 675 MASSACHUSETTS AVE, CAMBRIDGE, MA 02139-0000 | 14 | 226,244
PONTIAC HSG COMMISSION | 132 FRANKLIN BLVD, PONTIAC, MI 48341 | 200 | 1,296,552
HSG AUTH BILOXI | P O BOX 447, BILOXI, MS 39533-0000 | 4 | 13,794
HSG AUTH OF THE CITY OF CHARLOTTE | P O BOX 36795, 1301 SOUTH BLVD, CHARLOTTE, NC 28236 | 134 | 805,710
RALEIGH HSG AUTH | 600 TUCKER ST, P O BOX 28007, RALEIGH, NC 27611 | 100 | 683,628
CAMDEN HSG AUTH | 1300 ADMIRAL WILSON BLVD, P O BOX 1426, CAMDEN, NJ 08101 | 642 | 5,323,129
ELIZABETH HSG AUTH | 688 MAPLE AVE, ELIZABETH, NJ 07202-0000 | 250 | 2,167,050
JERSEY CITY HSG AUTH | 400 US HIGHWAY #1, JERSEY CITY, NJ 07306-6731 | 50 | 396,060
NEWARK HSG AUTH | 57 SUSSEX AVE, NEWARK, NJ 07103-3992 | 312 | 2,946,614
SAN MIGUEL CO HSG AUTH | CO COURTHOUSE ANNEX, BUILDING, LAS VEGAS, NM 87701-0000 | 34 | 128,416
CITY OF LAS VEGAS HSG AUTH | 420 N 10TH ST, P O BOX 1897, LAS VEGAS, NV 89125-1897 | 6 | 44,922
NEW YORK CITY HSG AUTH | 250 BROADWAY, NEW YORK, NY 10007-0000 | 102 | 934,700
AKRON MHA | 100 W CEDAR ST, AKRON, OH 44307-0000 | 134 | 693,058
CINCINNATI METRO HSG AUTH | 16 WEST CENTRAL PARKWAY, CINCINNATI, OH 45210-1991 | 636 | 2,658,593
COLUMBUS METRO HSG AUTH | 960 EAST FIFTH AVE, COLUMBUS, OH 43201-0000 | 330 | 1,268,485
HSG AUTH OF THE CO OF CHESTER | 30 W BARNARD ST, WEST CHESTER, PA 19382 | 85 | 508,942
PHILADELPHIA HSG AUTH | 2012-18 CHESTNUT ST, PHILADELPHIA, PA 19103-0000 | 2,136 | 15,772,966
POTTSVILLE HSG AUTH | 410 LAUREL BLVD, POTTSVILLE, PA 17901-0000 | 4 | 16,128
HSG AUTH COLUMBIA | 1917 HARDEN ST, COLUMBIA, SC 29204-0000 | 300 | 1,534,740
HSG AUTH OF BEAUMONT | P O BOX 1312, 4925 CONCORD RD, BEAUMONT, TX 77704-1312 | 50 | 213,204
HSG AUTH OF LUBBOCK | P O BOX 2568, 1301 BROADWAY, LUBBOCK, TX 79408-2568 | 37 | 239,748
VIRGIN ISLANDS HSG AUTH | P O BOX 7668, ST THOMAS, VI 00801-7668 | 296 | 2,054,763
Total for Public Housing Relocation/Replacement (Vouchers) |  | 8,567 | 56,958,763
Section 8 Counseling (Certificates)
MIAMI DADE HSG AUTH | 1401 NW 7TH ST, MIAMI, FL 33125 |  | 500,000
Total for Section 8 Counseling (Certificates) |  |  | 500,000
Section 8 Counseling (Vouchers)

Appendix A.—Section 8 Rental Assistance Programs Announcement of Awards for Fiscal Year 1999
Housing agency | Address | Units | Award
Litigation (Vouchers)
BOSTON HSG AUTH | 52 CHAUNCY ST, BOSTON, MA 02111-0000 | 0 | 800,000
HSG AUTH OF DALLAS | 3939 N HAMPTON RD, DALLAS, TX 75212 | 0 | 640,000
Total for Section 8 Counseling (Vouchers) |  | 0 | 1,440,000
Terminations/Opt-outs (Certificates)
HSG AUTH JEFFERSON CO | 3700 INDUSTRIAL PARKWAY, BIRMINGHAM, AL 35217 | 21 | 74,259
CITY OF LOS ANGELES HSG AUTH | 2600 WILSHIRE BLVD, LOS ANGELES, CA 90057-0000 | 34 | 196,324
NEW YORK STATE HSG FINANCE AGCY | HSG & COMM RENEWAL—LA CAPRA, 25 BEAVER ST, RM 674, NEW YORK, NY 10004 | 22 | 142,156
TEXAS CITY HSG AUTH | 817 SECOND AVE NORTH, TEXAS CITY, TX 77590-0000 | 17 | 114,904
FAIRFAX CO RED AND HSG AUTH | 3700 PENDER DR, FAIRFAX, VA 22030-0000 | 29 | 172,863
VIRGINIA HSG DEV'T AUTH | 601 S BELVIDERE ST, RICHMOND, VA 23220-0000 | 4 | 34,248
Total for Terminations/Opt-outs (Certificates) |  | 127 | 734,754
Terminations/Opt-outs (Vouchers)
HSG AUTH DECATUR | P O BOX 878, DECATUR, AL 35602-0000 | 4 | 12,536
HSG AUTH OF BIRMINGHAM DISTRICT | 1826 3RD AVE SOUTH, BIRMINGHAM, AL 35233 | 10 | 33,489
MOBILE HSG BOARD | P O BOX 1345, MOBILE, AL 36633-0000 | 34 | 144,136
HOT SPRING CO SECTION 8 PGM | P O BOX 550, MALVERN, AR 72104-0000 | 58 | 167,447
HOT SPRINGS HSG AUTH | P O BOX 1257, HOT SPRINGS, AR 71902 | 18 | 60,575
JONESBORO URBAN RENEWAL & HSG AUTH | 330 UNION ST, JONESBORO, AR 72401-0000 | 20 | 87,794
CITY OF PHOENIX | NEIGH'D IMPROVEMENT HSG D, 251 W WASHINGTON ST, 4TH FL, PHOENIX, AZ 85034-0000 | 139 | 861,001
CITY OF TEMPE | 132 E 6TH ST, STE 201, P O BOX 5002, TEMPE, AZ 85280-5002 | 12 | 50,316
WINSLOW HSG AUTH | 900 W HENDERSON SQ, WINSLOW, AZ 86047-0000 | 85 | 483,710
CITY OF FAIRFIELD | 823-B JEFFERSON ST, FAIRFIELD, CA 94533-0000 | 74 | 468,401
CITY OF LONG BEACH HSG AUTH | 333 WEST OCEAN BLVD, LONG BEACH, CA 90802-0000 | 15 | 92,741
CITY OF PICO RIVERA | 6615 S PASSONS BLVD, P O BOX 1016, PICO RIVERA, CA 90660-0000 | 17 | 80,353
CITY OF SACRAMENTO | SACRAMENTO HSG & REDEV'T, P O BOX 1834, SACRAMENTO, CA 95814 | 167 | 855,277
CITY OF SANTA ROSA | 90 SANTA ROSA AVE, P O BOX 1806, SANTA ROSA, CA 95402-0000 | 16 | 92,741
CITY OF VACAVILLE | 40 ELDRIDGE AVE, STES 1-5, VACAVILLE, CA 95687-0000 | 73 | 430,291
CITY OF VALLEJO | 251 GEORGIA ST, P O BOX 1432, VALLEJO, CA 94590-0000 | 26 | 184,383
CO OF RIVERSIDE HSG AUTH | 5555 ARLINGTON AVE, RIVERSIDE, CA 92504-0000 | 40 | 213,302
CO OF SACRAMENTO | SACRAMENTO HSG & REDEV'T, P O BOX 1834, SACRAMENTO, CA 95814 | 290 | 1,626,218
CO OF SAN DIEGO | 3989 RUFFIN RD, SAN DIEGO, CA 92123 | 124 | 678,467
CO OF SAN MATEO HSG AUTH | 264 HARBOR BLVD, BLDG A, BELMONT, CA 94002 | 122 | 1,021,619
CO OF SANTA CLARA HSG AUTH | 505 WEST JULIAN ST, SAN JOSE, CA 95110-2300 | 201 | 2,384,356
HSG AUTH CO OF KERN | 525 ROBERTS LANE, BAKERSFIELD, CA 93308-0000 | 3 | 9,851
IMPERIAL VALLEY HSG AUTH | 1401 D ST, BRAWLEY, CA 92227-0000 | 12 | 66,510
OAKLAND HSG AUTH | 1619 HARRISON ST, OAKLAND, CA 94612-0000 | 36 | 258,740
SAN DIEGO HSG COMMISSION | 1625 NEWTON AVE, SAN DIEGO, CA 92113-1012 | 308 | 1,817,996
SAN FRANCISCO HSG AUTH | 440 TURK ST, SAN FRANCISCO, CA 94102-0000 | 33 | 269,675
SAN JOSE HSG AUTH | 505 WEST JULIAN ST, SAN JOSE, CA 95110-2300 | 176 | 1,824,344
SANTA CRUZ CO HSG AUTH | 2160—41ST AVE, CAPITOLA, CA 95010-2060 | 77 | 488,242
TULARE CO HSG AUTH | 5140 W CYPRESS AVE, P O BOX 791, VISALIA, CA 93279-0000 | 54 | 250,222
HSG AUTH OF THE CITY AND CO OF DENVER | P O BOX 40305—MILE HI STN, DENVER, CO 80204-0305 | 15 | 77,212
DC HSG AUTH | 1133 NORTH CAPITOL ST NE, WASHINGTON, DC 20002-7599 | 10 | 85,834
HIALEAH HSG AUTH | 70 EAST 7TH ST, HIALEAH, FL 33010-0000 | 166 | 985,088
HILLSBOROUGH CO—BOCC | 9260 BAY PLAZA BLVD, STE 510, TAMPA, FL 33619 | 11 | 58,468
HSG AUTH LAKE WALES | P O BOX 426, 10 W SESSOMS AVE, LAKE WALES, FL 33859 | 2 | 15,287

Appendix A.—Section 8 Rental Assistance Programs Announcement of Awards for Fiscal Year 1999
Housing agency | Address | Units | Award
Litigation (Vouchers)
HSG AUTH OF JACKSONVILLE | 1300 BROAD ST, JACKSONVILLE, FL 32202-0000 | 139 | 606,992
LAKE CO HSG AGCY | PO BOX 7800, TAVARES, FL 32778-0000 | 55 | 374,059
MIAMI DADE HSG AUTH | 1401 NW 7TH ST, MIAMI, FL 33125 | 34 | 277,661
SEMINOLE CO HSG AUTH | 300 SUNFLOWER CIR, DELAND, FL 32724 | 114 | 588,199
HSG AUTH ATLANTA GA | 739 WEST PEACHTREE ST NE, ATLANTA, GA 30308 | 8 | 55,392
HSG AUTH CARROLLTON | PO BOX 627, CARROLLTON, GA 30117-0000 | 74 | 524,074
HSG AUTH JONESBORO | PO BOX 458, JONESBORO, GA 30237-0000 | 0 | 370,332
CITY AND CO OF HONOLULU | DEPT OF COMM & SOCIAL SERVIC, 715 SOUTH KING ST, STE, HONOLULU, HI 96813-0000 | 32 | 252,095
CENTRAL IOWA REGIONAL HSG AUTH | 1111 NINTH ST, STE 390, DES MOINES, IA 50314-0000 | 109 | 203,740
CITY OF CLINTON, IOWA HSG AUTH | 215 6TH AVE S STE 33, CLINTON, IA 52732-0000 | 8 | 22,259
KNOXVILLE LOW RENT HSG AGCY | 305 S THIRD ST, KNOXVILLE, IA 50118-0000 | 101 | 226,738
MARSHALLTOWN LRHA | 24 NORTH CENTER ST, MARSHALLTOWN, IA 50158-0000 | 54 | 124,351
MUNICIPAL HSG AGCY | 505 SOUTH SIXTH ST, COUNCIL BLUFFS, IA 51503-0000 | 10 | 44,736
NORTH IOWA REGIONAL HSG AUTH | 217 2ND ST SW, MASON CITY, IA 50401-0000 | 8 | 26,163
OSKALOOSA MUNICIPAL PHA | 220 SOUTH MARKET, OSKALOOSA, IA 52577-3133 | 22 | 75,178
BOISE CITY HSG AUTH | 680 CUNNINGHAM PL, BOISE, ID 83702-0000 | 39 | 217,233
CHICAGO HSG AUTH | 626 WEST JACKSON BLVD, CHICAGO, IL 60661 | 15 | 130,417
GREATER METRO HSG AUTH ROCK IS | 325 SECOND ST, SILVIS, IL 61282-0000 | 36 | 154,410
HSG AUTH ROCKFORD | 223 SOUTH WINNEBAGO ST, ROCKFORD, IL 61102 | 60 | 274,917
LAKE CO HSG AUTH | 33928 N ROUTE 45, GRAYSLAKE, IL 60030-0000 | 24 | 157,101
PEORIA HSG AUTH | 100 S SHERIDAN RD, PEORIA, IL 61605-0000 | 18 | 58,226
WICHITA HSG AUTH | 455 N MAIN CITY HALL 11TH FLO, WICHITA, KS 67202-0004 | 33 | 128,753
JEFFERSON CO HSG AUTH | 801 VINE ST, LOUISVILLE, KY 40204-1044 | 14 | 40,076
JEFFERSON PARISH HSG AUTH SEC.8 PGM | 1718 BETTY ST, MARRERO, LA 70072-0000 | 43 | 171,199
LAKE CHARLES HSG AUTH | PO BOX 1206, LAKE CHARLES, LA 70602-0000 | 143 | 881,225
NEW IBERIA (CITY OF) | 457 E MAIN ST, COURTHOUSE, RM 300, NEW IBERIA, LA 70560 | 21 | 58,203
SHREVEPORT HSG AUTH | 623 JORDAN, SHREVEPORT, LA 71101-0000 | 40 | 167,851
BOSTON HSG AUTH | 52 CHAUNCY ST, BOSTON, MA 02111-0000 | 444 | 3,433,453
LOWELL HSG AUTH | 350 MOODY ST, LOWELL, MA 01853-0060 | 137 | 764,603
MILFORD HSG AUTH | 45 BIRMINGHAM CT, MILFORD, MA 01757 | 52 | 498,199
SALEM HSG AUTH | 27 CHARTER ST, SALEM, MA 01970 | 57 | 368,437
DEPT OF HSG & COMMUNITY DEV'T | 100 COMMUNITY PL, CROWNSVILLE, MD 21032-2023 | 30 | 115,765
HOWARD CO HSG COMMISSION | 6751 COLUMBIA GATEWAY DR, COLUMBIA, MD 21044 | 10 | 38,976
HSG AUTH PRINCE GEORGES CO | 9400 PEPPERCORN PL, LANDOVER, MD 20785-0000 | 4 | 26,328
MONTGOMERY CO HSG AUTH | 10400 DETRICK AVE, KENSINGTON, MD 20895-0000 | 64 | 506,589
BANGOR HSG AUTH | 161 DAVIS RD, BANGOR, ME 04401-0000 | 32 | 77,056
DETROIT HSG COMMISSION | JOHN NELSON, EX DIR, 2211 ORLEANS, DETROIT, MI 48207 | 74 | 342,136
JACKSON HSG COMMISSION | 301 STEWARD AVE, JACKSON, MI 49201-1132 | 45 | 102,260
MICHIGAN STATE HSG DEV'T AUTH | 401 S WASHINGTON SQ, LANSING, MI 48909-0000 | 46 | 248,550
MICHIGAN STATE HSG DEV'T AUTH | PO BOX 30044, LANSING, MI 48909-0000 | 87 | 364,277
WESTLAND HSG COMMISSION | 32715 DORSEY RD, WESTLAND, MI 48185-0000 | 230 | 1,015,242
FRANKLIN CO PUBLIC HSG AGCY | PO BOX 920, HILLSBORO, MO 63050-0000 | 40 | 215,486
INDEPENDENCE HSG AUTH | 2600 HUB DR NORTH, INDEPENDENCE, MO 64055-0000 | 32 | 140,695
KIRKSVILLE HSG AUTH | PO BOX 730, KIRKSVILLE, MO 63501-0000 | 25 | 70,614
LAFAYETTE CO HSG AUTH | PO BOX 550, 1415 SOUTH ODELL, MARSHALL, MO 65340-0550 | 5 | 21,698
MO HSG DEV'T COMM | 3435 BROADWAY, KANSAS CITY, MO 64111-0000 | 13 | 60,290
MARIANA ISLANDS HSG AUTH | PO BOX 514, SAIPAN, MP 96950-0000 | 25 | 311,445
MISS REGIONAL HSG AUTH VI | PO DRAWER 8746, JACKSON, MS 39284-8746 | 33 | 128,415
MISS REGIONAL HSG AUTH VIII | PO BOX 2347, GULFPORT, MS 39505-0234 | 110 | 512,918
MISSISSIPPI REGIONAL HSG AUTH IV | PO BOX 1051, COLUMBUS, MS 39703-1051 | 20 | 39,749

Appendix A.—Section 8 Rental Assistance Programs Announcement of Awards for Fiscal Year 1999
Housing agency | Address | Units | Award
Litigation (Vouchers)
MISSOULA HSG AUTH | 1319 E BROADWAY, MISSOULA, MT 59802-0000 | 21 | 61,040
HSG AUTH ASHEVILLE | 165 S FRENCH BROAD AVE, P O BOX 1898, ASHEVILLE, NC 28802 | 100 | 499,896
HSG AUTH GREENSBORO | 450 N CHURCH ST, P O BOX 21287, GREENSBORO, NC 27420 | 30 | 178,394
HSG AUTH OF THE CITY OF CHARLOTTE | P O BOX 36795, 1301 SOUTH BLVD, CHARLOTTE, NC 28236 | 50 | 222,846
HSG AUTH OF THE CITY OF WILMINGTON | 508 S FRONT ST, P O BOX 899, WILMINGTON, NC 28402 | 10 | 50,505
ISOTHERMAL PLANNING & DEV COMM | 111 W COURT ST, P O BOX 841, RUTHERFORDTON, NC 28139-0841 | 20 | 49,402
RALEIGH HSG AUTH | 600 TUCKER ST, P O BOX 28007, RALEIGH, NC 27611 | 14 | 87,356
MORTON CO HSG AUTH | P O BOX 517, MANDAN, ND 58554-0000 | 15 | 57,274
DOUGLAS CO HSG AUTH | 5404 NORTH 107TH PLAZA, OMAHA, NE 68134-0000 | 95 | 504,321
CONCORD HSG AUTH | 15 PITMAN ST, CONCORD, NH 03301 | 19 | 61,134
KEENE HSGAUTH | 105 CASTLE ST, KEENE, NH 03431 | 75 | 308,817
NEW HAMPSHIRE HSG FINANCE AUTH | 24 CONSTITUTION DR, MANCHESTER, NH 03108-5087 | 140 | 572,136
NEW JERSEY DEPT OF COMMUNITY AFFAIRS | 101 SOUTH BROAD ST, P O BOX 051, TRENTON, NJ 08625-0051 | 690 | 4,572,183
BERNALILLO CO HSG DEPT | 620 LOMAS BLVD NW, ALBUQUERQUE, NM 87102-0000 | 28 | 123,332
CITY OF LAS VEGAS HSG AUTH | 420 N 10TH ST, P O BOX 1897, LAS VEGAS, NV 89125-1897 | 18 | 105,365
CITY OF RENO HSG AUTH | 1525 EAST NINTH ST, RENO, NV 89512-3012 | 186 | 1,056,380
CO OF CLARK HSG AUTH | 5390 EAST FLAMINGO RD, LAS VEGAS, NV 89122-5338 | 53 | 350,369
NORTH LAS VEGAS HSG AUTH | 1632 YALE ST, NORTH LAS VEGAS, NV 89030-6892 | 20 | 145,671
CITY OF BUFFALO | 470 FRANKLIN ST, BUFFALO, NY 14202-0000 | 103 | 332,318
NEW YORK CITY HSG AUTH | 250 BROADWAY, NEW YORK, NY 10007-0000 | 766 | 6,128,139
NEW YORK STATE HSG FINANCE AGCY | HSG & COMM RENEWAL—LA CAPRA, 25 BEAVER ST, RM 674, NEW YORK, NY 10004 | 103 | 983,664
BELMONT METRO HSG AUTH | 100 SOUTH THIRD ST, P O BOX 398, MARTINS FERRY, OH 43935-0000 | 8 | 22,222
COLUMBUS METRO HSG AUTH | 960 EAST FIFTH AVE, COLUMBUS, OH 43201-0000 | 12 | 73,469
DAYTON METRO HSG AUTH | 400 WAYNE AVE, DAYTON, OH 45410-1106 | 8 | 44,407
HAMILTON CO PUBLIC HSG | 138 EAST COURT ST, RM 507, CINCINNATI, OH 45202-1230 | 28 | 108,811
LORAIN MHA | 1600 KANSAS AVE, LORAIN, OH 44052-3317 | 40 | 243,540
MARION METRO HSG AUTH | 150 PARK AVE WEST, MANSFIELD, OH 44901-1029 | 2 | 6,236
SANDUSKY MHA | 1358 MOSSER DR, FREMONT, OH 43420-0000 | 22 | 85,850
HSG AUTH OF PORTLAND | 135 SW ASH ST, PORTLAND, OR 97204-0000 | 30 | 125,248
MARION CO HSG AUTH | 3150 LANCASTER DR NE, SALEM, OR 97305-0000 | 8 | 30,540
MID COLUMBIA HSG AGCY | 506 E 2ND ST, THE DALLES, OR 97058-0000 | 3 | 14,886
NORTHWEST OREGON HSG ASSOCIATION | 1508 EXCHANGE, ASTORIA, OR 97103-0000 | 27 | 80,519
BERKS CO HSG AUTH | 1803 BUTTER LANE, READING, PA 19606-0000 | 40 | 127,498
BUCKS CO HSG AUTH | P O BOX 1329, 350 SOUTH MAIN ST, DOYLESTOWN, PA 18901-0967 | 86 | 452,133
CUMBERLAND CO HSG AUTH | 114 NORTH HANOVER ST, CARLISLE, PA 17013-0000 | 117 | 352,851
HSG AUTH CO OF LAWRENCE | 481 NESHANNOCK AVE, P O BOX 988, NEW CASTLE, PA 16103-0000 | 9 | 26,775
HSG AUTH COLUMBIA | 1917 HARDEN ST, COLUMBIA, SC 29204-0000 | 36 | 177,772
HSG AUTH GREENVILLE | P O BOX 10047, GREENVILLE, SC 29603-0047 | 32 | 110,133
HSG AUTH SOUTH CAROLINA REG NO 1 | P O BOX 326, LAURENS, SC 29360-0000 | 10 | 45,849
S C STATE HSG FINANCE & DEV | 919 BLUFF RD, COLUMBIA, SC 29201-0000 | 108 | 391,091
ABERDEEN HSG & REDEV'T COMMISSION | 104 S LINCOLN ST, #102, ABERDEEN, SD 57401-0000 | 26 | 64,919
SIOUX FALLS HSG & REDEV'T COMMISSION | 804 S MINNESOTA, SIOUX FALLS, SD 57104 | 70 | 324,779
METRO DEV'T & HSG AGNCY | 701 SOUTH SIXTH ST, P O BOX 846, NASHVILLE, TN 37202-0846 | 185 | 1,181,178
BEEVILLE HSG AUTH | P O BOX 427, BEEVILLE, TX 78104-0000 | 62 | 254,488
BRAZOS VALLEY DEV'T COUNCIL | P O DRAWER 4128, BRYAN, TX 77805-4128 | 16 | 73,511
CUERO HSG AUTH | P O BOX 804, CUERO, TX 77954-0000 | 17 | 72,644
DALLAS CO HSG ASSIST PGM | 2377 N STEMMONS FRWY, STE 700, DALLAS, TX 75207-2710 | 358 | 2,632,450
GARLAND HSG AUTH | P O BOX 469002, 701 CLARK ST, GARLAND, TX 75046-9002 | 85 | 548,926
GEORGETOWN HSG AUTH | P O BOX 60, GEORGETOWN, TX 78627-0060 | 51 | 388,204
HOUSTON HSG AUTH | 2640 FOUNTAIN VIEW, HOUSTON, TX 77057 | 156 | 707,030

Appendix A.—Section 8 Rental Assistance Programs Announcement of Awards for Fiscal Year 1999
Housing agency | Address | Units | Award
Litigation (Vouchers)
HSG AUTH OF DALLAS | 3939 N HAMPTON RD, DALLAS, TX 75212 | 208 | 1,447,654
HSG AUTH OF EL PASO | P O BOX 9895, 5300 E PAISANO, EL PASO, TX 79995 | 39 | 241,822
HSG AUTH OF LUBBOCK | P O BOX 2568, 1301 BROADWAY, LUBBOCK, TX 79408-2568 | 45 | 165,856
HSG AUTH OF NACOGDOCHES | 715 SUMMIT ST, NACOGDOCHES, TX 75961 | 13 | 56,207
HSG AUTH OF PLANO | 1111 AVE H, BLDG A, PLANO, TX 75074 | 220 | 1,284,687
HSG AUTH OF PORT ARTHUR | P O BOX 2295, 920 DEQUEEN BLVD, PORT ARTHUR, TX 77643-2295 | 28 | 64,613
LANCASTER HSG AUTH | P O BOX 310, 525 WEST PLEASANT RUN, LANCASTER, TX 75146-0310 | 57 | 390,974
MC ALLEN HSG AUTH | 2301 JASMINE AVE, MC ALLEN, TX 78501-0000 | 5 | 13,422
MESQUITE HSG AUTH | P O BOX 850137, 720 N EBRITE, MESQUITE, TX 75185-0137 | 55 | 348,744
PASADENA (CITY OF) | P O BOX 672, PASADENA, TX 77501-0000 | 16 | 87,895
SCHERTZ HSG AUTH | 204 SCHERTZ PARKWAY, SCHERTZ, TX 78154-0000 | 53 | 231,336
SOUTH PLAINS REGIONAL HSG AUTH | P O BOX 690, 411 AUSTIN, LEVELLAND, TX 79336-0690 | 9 | 41,714
TARRANT CO HSG ASSIST PGM | 1200 CIR DR, #100, FORT WORTH, TX 76119 | 93 | 437,977
WICHITA FALLS HSG ASSIST PGM | P O BOX 1431, 1300 SEVENTH ST, WICHITA FALLS, TX 76307-1431 | 15 | 52,339
HSG AUTH OF THE CO OF SALT LAKE | 3595 S MAIN ST, SALT LAKE CITY, UT 84115-0000 | 18 | 69,455
FAIRFAX CO RED AND HSG AUTH | 3700 PENDER DR, FAIRFAX, VA 22030-000 | 51 | 381,813
NEWPORT NEWS REDEV'T & HSG AUTH | P O BOX 77, NEWPORT NEWS, VA 23607-0077 | 20 | 100,557
HSG AUTH CITY OF EVERETT | 3107 COLBY AVE, P O BOX 1547, EVERETT, WA 98206-1547 | 30 | 214,708
HSG AUTH OF CHELAN CO/CITY OF WENATCHEE | 1555 SOUTH METHOW ST, WENATCHEE, WA 98801-9417 | 6 | 19,627
HSG AUTH OF THE CITY OF TACOMA | 902 SOUTH “L” ST, TACOMA, WA 98405-0000 | 75 | 368,181
HSG AUTH OF THE CITY OF VANCOUVER | 500 OMAHSG AUTH WAY, VANCOUVER, WA 98661-0000 | 29 | 176,738
SEATTLE HSG AUTH | 120 SIXTH AVE NORTH, SEATTLE, WA 98109-5002 | 43 | 222,092
SPOKANE HSG AUTH | WEST 55 MISSION ST, STE 104, SPOKANE, WA 99201-2344 | 9 | 27,903
DUNN CO HSG AUTH | 1421 STOUT RD, STE 100, MENOMONIE, WI 54751 | 2 | 7,521
GREEN BAY HSG AUTH | 100 N JEFFERSON, RM 608, CITY HALL, GREEN BAY, WI 54301-0000 | 48 | 186,181
HSG AUTH OF THE CITY OF MILWAUKEE | P O BOX 324, MILWAUKEE, WI 53201-0000 | 84 | 550,701
KENOSHSG AUTH HSG AUTH | 625 52ND ST, KENOSHA, WI 53140-0000 | 60 | 293,170
MADISON CDA | P O BOX 1785, MADISON, WI 53701-1785 | 78 | 400,278
RACINE CO HSG AUTH | 837 MAIN ST, RACINE, WI 53403-1522 | 113 | 621,957
HSG AUTH OF THE CITY OF CASPER | 1607 CY AVE, #301, CASPER, WY 82604-0000 | 102 | 284,556
WYOMING COMMUNITY DEV'T AUTH | P O BOX 634, CASPER, WY 82602-0000 | 34 | 69,588
Total for Terminations/Opt-outs (Vouchers) |  | 11,183 | 65,930,150
Grand Total |  | 30,098 | 185,666,931

[FR Doc. 00-8203 Filed 4-3-00; 8:45 am]

BILLING CODE 4210-33-P